ENVIRONMENTAL PROTECTION AGENCY

40 CFR Part 52

[EPA-R09-OAR-2015-0751; FRL-9942-06-Region 9]

Revisions to the California State Implementation Plan, San Joaquin Valley Unified Air Pollution Control District

AGENCY: Environmental Protection Agency (EPA).

ACTION: Proposed rule; reopening of comment period.

SUMMARY: The Environmental Protection Agency (EPA) issued a proposed rule in the Federal Register on December 2, 2015, proposing to approve a revision to the San Joaquin Valley Unified Air Pollution Control District (SJVUAPCD) portion of the California State Implementation Plan (SIP). The December 2, 2015 proposal provided for a 30-day public comment period ending January 4, 2016. One document in the docket for this proposal was not listed at www.regulations.gov until after the comment period had closed. EPA is reopening the comment period for 15 days to ensure the public has an opportunity to review and comment on all material in the docket.

DATES: Any comments must arrive by February 29, 2016.

ADDRESSES: Submit your comments, identified by Docket ID No. EPA-R09-OAR-2015-0751 at www.regulations.gov, or via email to steckel.andrew@epa.gov.

For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Nicole Law, EPA Region IX, (415) 947-4126, Law.Nicole@epa.gov.

SUPPLEMENTARY INFORMATION: This document reopens the public comment period established in the proposed rule published in the Federal Register on December 2, 2015 (80 FR 75442) (FRL-9939-64-Region 9). In that document, EPA solicited comments on a proposed rule to approve revisions to the SJVUAPCD's Rule 4702 (Internal Combustion Engines) and referenced a technical support document (TSD) containing further information about the rule. Due to an administrative error, the TSD was not available on www.regulations.gov until after the close of the comment period on January 4, 2016. Although EPA did not receive any public comments on this proposal or any requests for the TSD, EPA is reopening the comment period for another 15 days to ensure that the public has an opportunity to review and comment on all material in the docket. Accordingly, any comments on this proposed rule must be received on or before February 29, 2016.

List of Subjects in 40 CFR Part 52

Environmental protection, Air pollution control, Carbon monoxide, Incorporation by reference, Intergovernmental relations, Nitrogen dioxide, Ozone, Particulate matter, Reporting and recordkeeping requirements, Volatile organic compounds.

Authority: 42 U.S.C. 7401 et seq.

Dated: February 2, 2016.
Jared Blumenfeld,
Regional Administrator, Region IX.

[FR Doc. 2016-02845 Filed 2-11-16; 8:45 am]

BILLING CODE 6560-50-P